DEPARTMENT OF COMMERCE

National Oceanic and Atmospheric Administration

RIN 0648-XF477

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Atlantic Bluefish Advisory Panel will hold a public meeting, jointly with the Atlantic States Marine Fisheries Commission (ASMFC) Atlantic Bluefish Advisory Panel.

DATES: The meeting will be held on Tuesday, June 27, 2017, from 9 a.m. to 12 p.m. For agenda details, see SUPPLEMENTARY INFORMATION.

ADDRESSES: Meeting address: The meeting will be held via webinar with a telephone-only connection option. Details on the proposed agenda, webinar listen-in access, and briefing materials will be posted at the MAFMC's Web site: www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panels to create a fishery performance report (FPR). The intent of this report is to facilitate a venue for structured input from the Advisory Panels for the Atlantic Bluefish specifications process. The FPR will be used by the MAFMC's Scientific and Statistical Committee (SSC) and the Atlantic Bluefish Monitoring Committee (MC), when reviewing (at future meetings in July), and if necessary revising, the current measures designed to achieve the recommended Atlantic Bluefish catch and landings limits for 2018. In addition, the MAFMC and ASMFC will consider input from the Advisory Panels in August when reviewing these specifications.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Special Accommodations

The meeting is physically accessible to people with disabilities. Requests for sign language interpretation or other auxiliary aid should be directed to M. Jan Saunders, (302) 526-5251, at least 5 days prior to the meeting date.

Dated: June 8, 2017.
Tracey L. Thompson,
Acting Deputy Director, Office of Sustainable Fisheries, National Marine Fisheries Service.

[FR Doc. 2017-12255 Filed 6-13-17; 8:45 am]

BILLING CODE 3510-22-P